DEPARTMENT OF THE INTERIOR

Fish and Wildlife Service

[FWS-R2-ES-2011-N036; 20124-1113-0000-F5]

Endangered and Threatened Species Permit Applications

AGENCY: Fish and Wildlife Service, Interior.

ACTION: Notice of receipt of applications; request for public comment.

SUMMARY: The following applicants have applied for scientific research permits to conduct certain activities with endangered species under the Endangered Species Act of 1973, as amended (Act). The Act requires that we invite public comment on these permit applications.

DATES: To ensure consideration, written comments must be received on or before April 21, 2011.

ADDRESSES: Written comments should be submitted to the Chief, Endangered Species Division, Ecological Services, P.O. Box 1306, Room 6034, Albuquerque, NM 87103. Documents and other information submitted with these applications are available for review, subject to the requirements of the Privacy Act and Freedom of Information Act. Documents will be available for public inspection, by appointment only, during normal business hours at the U.S. Fish and Wildlife Service, 500 Gold Ave. SW., Room 6034, Albuquerque, NM 87102. Please refer to the respective permit number for each application when submitting comments.

FOR FURTHER INFORMATION CONTACT: Susan Jacobsen, Chief, Endangered Species Division, P.O. Box 1306, Albuquerque, NM 87103; (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-33863A

Applicant: Deborah Blackburn, Austin, Texas.

Applicant requests a new permit for research and recovery purposes to conduct presence/absence surveys for golden-cheeked warbler (Dendroica chrysoparia) and black-capped vireo (Vireo atricapilla) within Texas, and southwestern willow flycatcher (Empidonax traillii extimus) within Texas, New Mexico, Arizona, Oklahoma, Utah, Nevada, California, and Colorado.

Permit TE-33921A

Applicant: City of San Antonio, San Antonio, Texas.

Applicant requests a new permit for research and recovery purposes to conduct presence/absence surveys for golden-cheeked warbler (Dendroica chrysoparia) and black-capped vireo (Vireo atricapilla) within Texas.

Permit TE-34030A

Applicant: Dustin McBride, North Richland Hills, Texas.

Applicant requests a new permit for research and recovery purposes to conduct presence/absence surveys for Houston toad (Bufo houstonensis) within Texas.

Permit TE-106816

Applicant: Douglas High School, Douglas, Arizona.

Applicant requests a new permit for holding a refugium and breeding population for Yaqui topminnow (Poeciliopsis occidentalis sonoriensis) and Yaqui chub (Gila pupurea) at Douglas High School, to establish, reestablish, or augment populations consistent with appropriate agreements and necessary State and Federal permits.

Permit TE-819451

Applicant: Ecosystem Management, Albuquerque, New Mexico.

Applicant requests a renewal to a current permit for research and recovery purposes to conduct presence/absence surveys for black-footed ferret (Mustela nigripes), interior least tern (Sterna antillarum anthalassos), northern aplomado falcon (Falco femeralis septentrionalis), and southwestern willow flycatcher (Empidonax traillii extimus) within New Mexico and Arizona.

Permit TE-35152A

Applicant: Ronald Van Den Bussche, Stillwater, Oklahoma.

Applicant requests a new permit for research and recovery purposes to conduct presence/absence surveys for Ozark big-eared bat (Corynorhinus townsendii ingens) and gray bat (Myotis grisescens) within Arkansas and Oklahoma.

Permit TE-35159A

Applicant: New Mexico State Land Office, Santa Fe, New Mexico.

Applicant requests a new permit for research and recovery purposes to conduct presence/absence surveys for southwestern willow flycatcher (Empidonax traillii extimus) and Rio Grande silvery minnow (Hybognathus amarus) within New Mexico.

Permit TE-35163A

Applicant: Joseph Grzybowski, Norman, Oklahoma.

Applicant requests a new permit for research and recovery purposes to conduct presence/absence surveys, nest surveys, and banding activities for black-capped vireo (Vireo atricapilla) within Texas and Oklahoma.

Permit TE-169770

Applicant: New Mexico Interstate Stream Commission, Santa Fe, New Mexico.

Applicant requests an amendment to a current permit for research and recovery purposes to conduct a spawning study, propagate, and collect and transport eggs for Rio Grande silvery minnows (Hybognathus amarus) within the Los Lunas Silvery Minnow Refugium, New Mexico.

Permit TE-837751

Applicant: Bureau of Reclamation, Phoenix, Arizona.

Applicant requests an amendment to a current permit for research and recovery purposes to conduct presence/absence surveys for woundfin (Plagopterus agrentissimus) within Arizona.

Permit TE-35429A

Applicant: Chris Sledge, Weatherford, Texas.

Applicant requests a new permit for research and recovery purposes to conduct presence/absence surveys for golden-cheeked warbler (Dendroica chrysoparia) and black-capped vireo (Vireo atricapilla) within Texas.

Permit TE-35437A

Applicant: Tulsa District U.S. Army Corps of Engineers, Tulsa, Oklahoma.

Applicant requests a new permit for research and recovery purposes to conduct presence/absence surveys for gray bat (Myotis grisescens), Indiana bat (Myotis sodalis), Ozark big-eared bat (Corynorhinus townsendii ingens), black-capped vireo (Vireo atricapilla), interior least tern (Sterna antillarum), leopard darter (Percina pantherina), Neosho madtom (Noturus placidus), Arkansas River shiner (Notropis girardi), Ouachita rock pocketbook (Arkansia wheeleri), winged mapleleaf (Quadrula fragosa), and American burying beetle (Nicrophorus americanus) within Oklahoma, Texas, and Kansas.

Permit TE-35591A

Applicant: Marc Baker, Chino Valley, Arizona.

Applicant requests a new permit for research and recovery purposes to collect flower buds for chromosome counts from Arizona hedgehog cactus (Echinocereus triglochidiatus var. arizonicus) within the Tonto National Forest, Arizona.

Permit TE-35429A

Applicant: Chris Sledge, Weatherford, Texas.

Applicant requests a new permit for research and recovery purposes to conduct presence/absence surveys for two ground beetles without common names (Rhadine exilis and Rhadine infernalis), Helotes mold beetle (Batrisodes venyivi), Cokendolpher Cave harvestman (Texella cokendolpheri), Robber Baron Cave meshweaver (Cicurina baronia), Madla Cave meshweaver (Cicurina madla), Bracken Bat Cave meshweaver (Cicurina venii), Government Canyon Bat Cave meshweaver (Cicurina vespera), Government Canyon Bat Cave spider (Neoleptoneta microps), Tooth Cave spider (Neoleptoneta myopica), Tooth Cave pseudoscorpion (Tartarocreagris texana), Bee Creek Cave harvestman (Texella reddelli), Kretschmarr Cave mold beetle (Texamaurops reddelli), Tooth Cave ground beetle (Rhadine persephone), Bone Cave harvestman (Texella reyesi), and Coffin Cave mold beetle (Batrisodes texanus) within Texas.

Permit TE-36653A

Applicant: PBS&J, Austin, Texas.

Applicant requests a new permit for research and recovery purposes to conduct presence/absence surveys for golden-cheeked warbler (Dendroica chrysoparia), black-capped vireo (Vireo atricapilla), southwestern willow flycatcher (Empidonax traillii extimus), interior least tern (Sterna antillarum anthalassos), northern aplomado falcon (Falco femeralis septentrionalis), red-cockaded woodpecker (Picoides borealis), Yuma clapper rail (Rallus logirostris yumanensis), Houston toad (Bufo houstonensis), Barton Springs salamander (Eurycea sosorum), San Marco salamander (Eurycea nana), Texas blind salamander (Typhlomolge rathbuni), fountain darter (Etheostoma fonticola), San Marcos gambusia (Gambusia georgei), Comal Springs riffle beetle (Heterelmis comalensis), Comal Springs dryopid beetle (Stygoparnus comalensis), Peck's Cave amphipod (Stygobromus pecki), two ground beetles without common names (Rhadine exilis and Rhadine infernalis), Helotes mold beetle (Batrisodes venyivi), Cokendolpher Cave harvestman (Texella cokendolpheri), Robber Baron Cave meshweaver (Cicurina baronia), Madla Cave meshweaver (Cicurina madla), Bracken Bat Cave meshweaver (Cicurina venii), Government Canyon Bat Cave meshweaver (Cicurina vespera), Government Canyon Bat Cave spider (Neoleptoneta microps), Tooth Cave spider (Neoleptoneta myopica), Tooth Cave pseudoscorpion (Tartarocreagris texana), Bee Creek Cave harvestman (Texella reddelli), Kretschmarr Cave mold beetle (Texamaurops reddelli), Tooth Cave ground beetle (Rhadine persephone), Bone Cave harvestman (Texella reyesi), and Coffin Cave mold beetle (Batrisodes texanus) within Texas, Louisiana, Mississippi, Arkansas, Arizona, and New Mexico.

Permit TE-012642

Applicant: Blue Earth Ecological Consultants, Santa Fe, New Mexico.

Applicant requests a new permit for research and recovery purposes to conduct presence/absence surveys for southwestern willow flycatcher (Empidonax traillii extimus) within New Mexico.

Permit TE-066458

Applicant: National Aquarium, Washington, DC.

Applicant requests a new permit for research and recovery purposes to hold and display, for educational purposes, the following species: Texas blind salamander (Typhlomolge rathbuni), bonytail chub (Gila elegans), desert pupfish (Cyprinodon macularius), razorback sucker (Xyrauchen texanus), Gila topminnow (Poeciliopsis occidentalis), and woundfin (Plagopterus argentissimus), which were obtained from the Dexter National Fish Hatchery in New Mexico and will be held at the National Aquarium.

Permit TE-168185

Applicant: Cox-McLain Environmental Consulting, Inc., Austin, Texas.

Applicant requests an amendment to a current permit for research and recovery purposes to conduct presence/absence surveys for southwestern willow flycatcher (Empidonax traillii extimus) within Texas.

Authority: 16 U.S.C. 1531 et seq.

Dated: March 7, 2011.
Joy Nicholopoulos,
Regional Director, Southwest Region, Fish and Wildlife Service.

[FR Doc. 2011-6634 Filed 3-21-11; 8:45 am]

BILLING CODE 4310-55-P